DEPARTMENT OF HOUSING AND URBAN DEVELOPMENT

[Docket No. FR-5045-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Audrey Ormerod, Headquarters, Office of the Assistant Chief of Staff for Installation Management, Attn: DAIM-MD, Room 1E677, 600 Army Pentagon, Washington, DC 20310; (703) 601-2520; Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 219-0728; Navy: Mr. Warren Meekins, Department of the Navy, Real Estate Services, Naval Facilities Engineering Command, Washington Navy Yard, 1322 Patterson Ave., SE., Suite 1000, Washington, DC 20374-5065; (202) 685-9305 (These are not toll-free numbers).

Dated: April 20, 2006.
Mark R. Johnston,
Acting Deputy Assistant Secretary for Special Needs.

TITLE V, FEDERAL SURPLUS PROPERTY PROGRAM, FEDERAL REGISTER REPORT FOR 4/28/06

Suitable/Available Properties

Buildings (by State)

Alaska

Tract 02-112

Legends of the Mountain

NW Fifth Ave.

Seward Co: AK 99664-

Landholding Agency: Interior

Property Number: 61200620001

Status: Unutilized

Comment: 6982 sq. ft., most recent use—restaurant/bar, off-site use only

Tract 02-114

Harbor Dinner Club

220 Fifth Ave.

Seward Co: AK 99664-

Landholding Agency: Interior

Property Number: 61200620002

Status: Unutilized

Comment: 5604 sq. ft., presence of asbestos/lead paint, most recent use—restaurant/bar, off-site use only

Tract 02-115

Old Solly's

Washington St.

Seward Co: AK 99664-

Landholding Agency: Interior

Property Number: 61200620003

Status: Unutilized

Comment: 7392 sq. ft., presence of asbestos/lead paint, most recent use—gift shop/offices/bar/apts., off-site use only

Minnesota

Memorial Army Rsv Ctr

1804 3rd Avenue

International Falls Co: Koochiching MN 56649-

Landholding Agency: GSA

Property Number: 54200620002

Status: Excess

Comment: 8992 sq. ft., presence of asbestos/lead paint, most recent use—admin/storage

GSA Number: 1-D-MN-586

Land (by State)

New Mexico

Portion/Medical Center

2820 Ridgecrest

Albuquerque Co: Bernalillo NM 87103-

Landholding Agency: GSA

Property Number: 54200620003

Status: Unutilized

Comment: 7.4 acres—vacant land

GSA Number: 7-GR-NM-04212A

New York

Youngstown Test Annex

Porter Center Road

Porter Co: NY 14174-0189

Landholding Agency: GSA

Property Number: 54200620004

Status: Surplus

Comment: 98.62 overgrown acres with 6 deteriorated buildings, abuts an industrial waste treatment facility

GSA Number: 1-D-NY-0879-1A

Suitable/Unavailable Properties

Buildings (by State)

Montana

Border Patrol Station

906 Oilfield Avenue

Shelby Co: Toole MT 59474-

Landholding Agency: GSA

Property Number: 54200620010

Status: Excess

Comment: bldg/1944 sq. ft.; garage/650 sq. ft.; shed/175 sq. ft.; potential asbestos/lead paint/radon

GSA Number: 7-Z-MT-0617

North Dakota

Residence #1

Hwy 30/Canadian Border

St. John Co: Rolette ND 58369-

Landholding Agency: GSA

Property Number: 54200620005

Status: Excess

Comment: 1300 sq. ft., possible asbestos/lead paint

GSA Number: 7-G-ND-0504

Residence #2

Hwy 30/Canadian Border

St. John Co: Rolette ND 58369-

Landholding Agency: GSA

Property Number: 54200620006

Status: Excess

Comment: 1300 sq. ft., possible asbestos/lead paint

GSA Number: 7-G-ND-0505

Residence #1

Hwy 281/Canadian Border

Dunseith Co: Rolette ND 58329-

Landholding Agency: GSA

Property Number: 54200620007

Status: Excess

Comment: 1640 sq. ft. bldg and garage, possible asbestos/lead paint

GSA Number: 7-G-ND-0508

Residence #2

Hwy 281/Canadian Border

Dunseith Co: Rolette ND 58329-

Landholding Agency: GSA

Property Number: 54200620008

Status: Excess

Comment: 1490 sq. ft., attached garage, possible asbestos/lead paint

GSA Number: 7-G-ND-0507

Residence #3

Hwy 281/Canadian Border

Dunseith Co: Rolette ND 58329-

Landholding Agency: GSA

Property Number: 54200620009

Status: Excess

Comment: 1490 sq. ft., attached garage, possible asbestos/lead paint

GSA Number: 7-G-ND-0506

Unsuitable Properties

Buildings (by State)

Alabama

Bldg. 115

Fort Rucker

Dale Co: AL 36362-

Landholding Agency: Army

Property Number: 21200620001

Status: Excess

Reason: Extensive deterioration

Bldg. 0006

Redstone Arsenal

Madison Co: AL 35898-

Landholding Agency: Army

Property Number: 21200620002

Status: Unutilized

Reason: Extensive deterioration

California

Bldgs. 01185, 01186

Combat Support Training Center

Dublin Co: CA 94568-

Landholding Agency: Army

Property Number: 21200620003

Status: Unutilized

Reason: Extensive deterioration

Defense Fuel Support Center

Norwalk Co: Los Angeles CA 90650-

Landholding Agency: GSA

Property Number: 54200620001

Status: Surplus

Reason: Within 2000 ft. of flammable or explosive material

GSA Number: 9-D-CA-1562

District of Columbia

Bldgs. DD, T-19

Naval Station

Washington Co: DC 20373-

Landholding Agency: Navy

Property Number: 77200620002

Status: Unutilized

Reason: Extensive deterioration

Georgia

Bldg. 01182

Fort Benning

Chattachoochee Co: GA 31905-

Landholding Agency: Army

Property Number: 21200620004

Status: Excess

Reason: Secured Area

Hawaii

10 Bldgs.

Aliamanu

Honolulu Co: HI 96818-

Location: 9, A0043, A0044, C0001, C0002, C0003, C0004, C0005, C0029, E0027

Landholding Agency: Army

Property Number: 21200620005

Status: Unutilized

Reason: Secured Area

Bldg. 00340

Wheeler Army Airfield

Wahiawa Co: HI 96786-

Landholding Agency: Army

Property Number: 21200620006

Status: Unutilized

Reason: Secured Area

Bldg. 1042

Wheeler Army Airfield

Wahiawa Co: HI 96786-

Landholding Agency: Army

Property Number: 21200620007

Status: Unutilized

Reason: Extensive deterioration

Bldg. T1054

Schofield Barracks

Wahiawa Co: HI 96786-

Landholding Agency: Army

Property Number: 21200620008

Status: Unutilized

Reason: Extensive deterioration

Bldgs. 1124, 1125

Schofield Barracks

Wahiawa Co: HI 96786-

Landholding Agency: Army

Property Number: 21200620009

Status: Unutilized

Reason: Extensive deterioration

Bldg. 02276

Schofield Barracks

Wahiawa Co: HI 96786-

Landholding Agency: Army

Property Number: 21200620010

Status: Unutilized

Reason: Extensive deterioration

18 Bldgs.

Kipapa Ammo Site

Mililani Co: HI 96786-

Location: 52 to 54, 24B, 26A&B, 27A&B, 28A&B, 29A&B, 30A&B, 31A&B, A0001, B0002

Landholding Agency: Army

Property Number: 21200620011

Status: Unutilized

Reason: Extensive deterioration

Illinois

Bldg. 374A

Argonne National Lab

Argonne Co: DuPage IL 60439-

Landholding Agency: Energy

Property Number: 41200620008

Status: Excess

Reason: Secured Area

Indiana

Bldg. 2796

Naval Support Activity

Crane Co: Martin IN 47522-

Landholding Agency: Navy

Property Number: 77200620001

Status: Unutilized

Reasons: Within 2000 ft. of flammable or explosive material; Secured Area; Extensive deterioration

Iowa

Bldg. 01039

Iowa Army Ammo Plant

Middletown Co: Des Moines IA 52601-

Landholding Agency: Army

Property Number: 21200620012

Status: Unutilized

Reasons: Within 2000 ft. of flammable or explosive material; Secured Area

Kentucky

Bldg. 00905

Blue Grass Army Depot

Richmond Co: Madison KY 40475-

Landholding Agency: Army

Property Number: 21200620013

Status: Excess

Reason: Extensive deterioration

Louisiana

Bldg. T8253

Fort Polk

Ft. Polk Co: LA

Landholding Agency: Army

Property Number: 21200620014

Status: Unutilized

Reason: Extensive deterioration

Maryland

Bldgs. 2204, 02271

Fort Meade

Anne Arundel Co: MD 20755-

Landholding Agency: Army

Property Number: 21200620015

Status: Unutilized

Reason: Extensive deterioration

New Jersey

Bldgs. 5208, 5210

Fort Dix

Burlington Co: NJ 08640-

Landholding Agency: Army

Property Number: 21200620016

Status: Unutilized

Reason: Extensive deterioration

Bldgs. 221a, 224, 225

Picatinny Arsenal

Dover Co: NJ 07806-

Landholding Agency: Army

Property Number: 21200620017

Status: Unutilized

Reasons: Within 2000 ft. of flammable or explosive material; Secured Area

Bldgs. 230, 230f

Picatinny Arsenal

Dover Co: NJ 07806-

Landholding Agency: Army

Property Number: 21200620018

Status: Unutilized

Reasons: Within 2000 ft. of flammable or explosive material; Secured Area

Bldgs. 231, 232a, 236

Picatinny Arsenal

Dover Co: NJ 07806-

Landholding Agency: Army

Property Number: 21200620019

Status: Unutilized

Reasons: Within 2000 ft. of flammable or explosive material; Secured Area

Bldg. 252c

Picatinny Arsenal

Dover Co: NJ 07806-

Landholding Agency: Army

Property Number: 21200620020

Status: Unutilized

Reasons: Within 2000 ft. of flammable or explosive material; Secured Area

Bldg. 321D

Picatinny Arsenal

Dover Co: NJ 07806-

Landholding Agency: Army

Property Number: 21200620021

Status: Unutilized

Reasons: Within 2000 ft. of flammable or explosive material; Secured Area

Bldg. 403

Picatinny Arsenal

Dover Co: NJ 07806-

Landholding Agency: Army

Property Number: 21200620022

Status: Unutilized

Reasons: Within 2000 ft. of flammable or explosive material; Secured Area

New Mexico

Bldgs. 33150, 33153

White Sands Missile Range

Dona Anna Co: NM 88002-

Landholding Agency: Army

Property Number: 21200620023

Status: Unutilized

Reason: Extensive deterioration

New York

Bldgs. 0707A, 0707B

Brookhaven National Lab

Upton Co: Suffolk NY 11973-

Landholding Agency: Energy

Property Number: 41200620001

Status: Excess

Reason: Extensive deterioration

Bldg. 0715

Brookhaven National Lab

Upton Co: Suffolk NY 11973-

Landholding Agency: Energy

Property Number: 41200620002

Status: Excess

Reason: Extensive deterioration

Bldg. 0751

Brookhaven National Lab

Upton Co: Suffolk NY 11973-

Landholding Agency: Energy

Property Number: 41200620003

Status: Excess

Reason: contamination

Bldg. 0753

Brookhaven National Lab

Upton Co: Suffolk NY 11973-

Landholding Agency: Energy

Property Number: 41200620004

Status: Excess

Reason: Extensive deterioration

North Carolina

Bldgs. A3872, A3879, A3881

Fort Bragg

Ft. Bragg Co: NC 28310-

Landholding Agency: Army

Property Number: 21200620024

Status: Unutilized

Reason: Extensive deterioration

5 Bldgs.

Fort Bragg

Ft. Bragg Co: NC 28310-

Location: A3923, A3925, A3930, A3932, A3934

Landholding Agency: Army

Property Number: 21200620025

Status: Unutilized

Reason: Extensive deterioration

Bldgs. A4118, A4119, A4318

Fort Bragg

Ft. Bragg Co: NC 28310-

Landholding Agency: Army

Property Number: 21200620026

Status: Unutilized

Reason: Extensive deterioration

4 Bldgs.

Fort Bragg

A4620, A4622, A4626, A4628

Ft. Bragg Co: NC 28310-

Landholding Agency: Army

Property Number: 21200620027

Status: Unutilized

Reason: Extensive deterioration

Bldgs. A4635, A4636

Fort Bragg

Ft. Bragg Co: NC 28310-

Landholding Agency: Army

Property Number: 21200620028

Status: Unutilized

Reason: Extensive deterioration

Bldgs. A4681, A4683, A4684

Fort Bragg

Ft. Bragg Co: NC 28310-

Landholding Agency: Army

Property Number: 21200620029

Status: Unutilized

Reason: Extensive deterioration

Bldgs. A4685, A4686, A4687

Fort Bragg

Ft. Bragg Co: NC 28310-

Landholding Agency: Army

Property Number: 21200620030

Status: Unutilized

Reason: Extensive deterioration

Bldgs. A4877, A4878, A4879

Fort Bragg

Ft. Bragg Co: NC 28310-

Landholding Agency: Army

Property Number: 21200620031

Status: Unutilized

Reason: Extensive deterioration

5 Bldgs.

Fort Bragg

Ft. Bragg Co: NC 28310-

Location: A4883, A4884, A4885, A4886, A4887

Landholding Agency: Army

Property Number: 21200620032

Status: Unutilized

Reason: Extensive deterioration

Bldgs. M5010, M5708

Fort Bragg

Ft. Bragg Co: NC 28310-

Landholding Agency: Army

Property Number: 21200620033

Status: Unutilized

Reason: Extensive deterioration

Bldgs. M6750, M6751, M6753

Fort Bragg

Ft. Bragg Co: NC 28310-

Landholding Agency: Army

Property Number: 21200620034

Status: Unutilized

Reason: Extensive deterioration

Bldgs. M6943, M6946

Fort Bragg

Ft. Bragg Co: NC 28310-

Landholding Agency: Army

Property Number: 21200620035

Status: Unutilized

Reason: Extensive deterioration

Bldgs. M6950, M6951, M6953

Fort Bragg

Ft. Bragg Co: NC 28310-

Landholding Agency: Army

Property Number: 21200620036

Status: Unutilized

Reason: Extensive deterioration

Bldgs. M7033, M7240, M7243

Fort Bragg

Ft. Bragg Co: NC 28310-

Landholding Agency: Army

Property Number: 21200620037

Status: Unutilized

Reason: Extensive deterioration

Bldgs. M7248, M7250, M7253

Fort Bragg

Ft. Bragg Co: NC 28310-

Landholding Agency: Army

Property Number: 21200620038

Status: Unutilized

Reason: Extensive deterioration

Bldgs. 81703, 82105, 82313

Fort Bragg

Ft. Bragg Co: NC 28310-

Landholding Agency: Army

Property Number: 21200620039

Status: Unutilized

Reason: Extensive deterioration

Pennsylvania

Bldgs. 0049A, 0049B

Defense Distribution Depot

New Cumberland Co: PA 17070-

Landholding Agency: Army

Property Number: 21200620040

Status: Excess

Reason: Secured Area

Puerto Rico

8 Bldgs.

Fort Buchanan

Guaynabo Co: PR

Location: 01003, 01004, 01005, 01006, 01007, 01008, 01009, 01026

Landholding Agency: Army

Property Number: 21200620041

Status: Excess

Reason: Extensive deterioration

South Carolina

Bldg. 714-006N

Savannah River Site

Aiken Co: SC 29802-

Landholding Agency: Energy

Property Number: 41200620005

Status: Excess

Reason: Secured Area

Bldg. 105-013P

Savannah River Operations

Aiken Co: SC 29802-

Landholding Agency: Energy

Property Number: 41200620007

Status: Unutilized

Reason: Secured Area

Tennessee

Bldgs. 05346, 05348, 07543

Fort Campbell

Montgomery Co: TN 42223-

Landholding Agency: Army

Property Number: 21200620042

Status: Unutilized

Reason: Extensive deterioration

7 Bldgs.

Fort Campbell

Montgomery Co: TN 42223-

Location: 7905, 7906, 7907, 7908, 7909, 7910, 7911

Landholding Agency: Army

Property Number: 21200620043

Status: Unutilized

Reason: Extensive deterioration

10 Bldgs.

Fort Campbell

Montgomery Co: TN 42223-

Location: 7912, 7913, 7914, 7915, 7920, 7921, 7922, 7928, 7029, 7930

Landholding Agency: Army

Property Number: 21200620044

Status: Unutilized

Reason: Extensive deterioration

Bldgs. 00232, 02546

Fort Campbell

Montgomery Co: TN 42223-

Landholding Agency: Army

Property Number: 21200620064

Status: Unutilized

Reason: Extensive deterioration

16 Bldgs.

Oak Ridge Reservation

Oak Ridge Co: Anderson TN 37831-

Location: Freels/Solway Bend Areas

Landholding Agency: Energy

Property Number: 41200620006

Status: Excess

Reason: Extensive deterioration

Texas

Bldg. D5040

Grand Prairie Reserve Complex

Tarrant Co: TX 75051-

Landholding Agency: Army

Property Number: 21200620045

Status: Unutilized

Reasons: Secured Area; Extensive deterioration

Utah

Bldg. 00424

Tooele Army Depot

Tooele Co: UT 84074-

Landholding Agency: Army

Property Number: 21200620046

Status: Unutilized

Reason: Secured Area

Bldg. 07001

Deseret Chemical Depot

Stockton Co: UT 84071-

Landholding Agency: Army

Property Number: 21200620047

Status: Excess

Reasons: Within 2000 ft. of flammable or explosive material; Secured Area

Virginia

Bldg. 12409

Fort Lee

Prince George Co: VA 23801-

Landholding Agency: Army

Property Number: 21200620048

Status: Unutilized

Reason: Extensive deterioration

Bldg. SW101

Fort Pickett

Blackstone Co: VA 23824-

Landholding Agency: Army

Property Number: 21200620049

Status: Unutilized

Reason: Extensive deterioration

Bldg. T0318

Fort Pickett

Blackstone Co: VA 23824-

Landholding Agency: Army

Property Number: 21200620050

Status: Unutilized

Reason: Extensive deterioration

Bldg. T1614

Fort Pickett

Blackstone Co: VA 23824-

Landholding Agency: Army

Property Number: 21200620051

Status: Unutilized

Reason: Extensive deterioration

Bldg. T3001

Fort Pickett

Blackstone Co: VA 23824-

Landholding Agency: Army

Property Number: 21200620052

Status: Unutilized

Reason: Extensive deterioration

Washington

Bldgs. 002PF, U040D

Fort Lewis

Pierce Co: WA 98433-

Landholding Agency: Army

Property Number: 21200620053

Status: Unutilized

Reason: Extensive deterioration

Bldgs. 006PF, 0025B

Fort Lewis

Pierce Co: WA 98433-

Landholding Agency: Army

Property Number: 21200620054

Status: Unutilized

Reason: Extensive deterioration

Bldgs. U106B, U110A, U110B

Fort Lewis

Pierce Co: WA 98433-

Landholding Agency: Army

Property Number: 21200620055

Status: Unutilized

Reason: Extensive deterioration

Bldgs. 3253, 3254, 3255

Fort Lewis

Pierce Co: WA 98433-

Landholding Agency: Army

Property Number: 21200620056

Status: Unutilized

Reason: Extensive deterioration

Bldg. 3312

Fort Lewis

Pierce Co: WA 98433-

Landholding Agency: Army

Property Number: 21200620057

Status: Unutilized

Reason: Extensive deterioration

Bldgs. W3429, W3430, W3431

Fort Lewis

Pierce Co: WA 98433-

Landholding Agency: Army

Property Number: 21200620058

Status: Unutilized

Reason: Extensive deterioration

Bldg. 5165

Fort Lewis

Pierce Co: WA 98433-

Landholding Agency: Army

Property Number: 21200620059

Status: Unutilized

Reason: Extensive deterioration

Wisconsin

Bldg. MSH31

Fort McCoy

Monroe Co: WI 54656-

Landholding Agency: Army

Property Number: 21200620060

Status: Unutilized

Reason: Extensive deterioration

Bldgs. R031B, R031G

Fort McCoy

Monroe Co: WI 54656-

Landholding Agency: Army

Property Number: 21200620061

Status: Unutilized

Reason: Extensive deterioration

Bldg. 08079

Fort McCoy

Monroe Co: WI 54656-

Landholding Agency: Army

Property Number: 21200620062

Status: Unutilized

Reason: Extensive deterioration

Bldgs. 08103, 08104

Fort McCoy

Monroe Co: WI 54656-

Landholding Agency: Army

Property Number: 21200620063

Status: Unutilized

Reason: Extensive deterioration

[FR Doc. E6-6245 Filed 4-27-06; 8:45 am]

BILLING CODE 4210-67-P